DEPARTMENT OF HEALTH AND HUMAN SERVICES

Administration for Children and Families

[Office of Management and Budget #: 0970-0488]

Proposed Information Collection Activity; Provision of Child Support Services in IV-D Cases Under the Hague Child Support Convention; Federally Approved Forms

AGENCY: Office of Child Support Services, Administration for Children and Families, U.S. Department of Health and Human Services.

ACTION: Request for public comments.

SUMMARY: The Office of Child Support Services is requesting a 3-year extension of the Provision of Child Support Services in IV-D Cases under the Hague Child Support Convention; Federally Approved Forms (Office of Management and Budget (OMB) #: 0970-0488, expiration March 31, 2026). There are no changes requested to these forms.

DATES: Comments due December 1, 2025.

ADDRESSES: In compliance with the requirements of the Paperwork Reduction Act of 1995, the Administration for Children and Families (ACF) is soliciting public comment on the specific aspects of the information collection described above. You can obtain copies of the proposed collection of information and submit comments by emailing infocollection@acf.hhs.gov. Identify all requests by the title of the information collection.

SUPPLEMENTARY INFORMATION:

Description: On January 1, 2017, the 2007 Hague Convention on the International Recovery of Child Support and Other Forms of Family Maintenance (the Convention) entered into force for the United States. This multilateral Convention contains provisions that, on a worldwide scale, establish uniform, simple, fast, and inexpensive procedures for processing international child support cases. Under the Convention, U.S. states process child support cases with other countries that have ratified the Convention under the requirements of the Convention and Article 7 of the Uniform Interstate Family Support Act (UIFSA 2008). To comply with the Convention, the United States implements the Convention's case processing forms.

State and federal law require states to use federally approved case processing forms. Section 311(b) of UIFSA 2008, which has been enacted by all 50 states, the District of Columbia, Guam, Puerto Rico, and the Virgin Islands, requires states to use forms mandated by federal law. 45 CFR 303.7 also requires child support programs to use federally approved forms in intergovernmental IV-D cases unless a country has provided alternative forms as a part of its chapter in a Caseworker's Guide to Processing Cases with Foreign Reciprocating Countries.

Respondents: State agencies administering a child support program under title IV-D of the Social Security Act.

Annual Burden Estimates

Annual burden estimates have been updated to reflect a decrease in the nationwide child support case load since the most recent full OMB review and approval process in 2023. Therefore, the annual number of responses per respondent has decreased, resulting in an overall decrease in estimated annual burden. The number of respondents and estimated time per response has not changed.

Instrument | Total number of respondents | Total annual number of responses per respondent | Average burden hours per response | Total burden hours
Annex I: Transmittal form under Article 12(2) | 54 | 37 | 1 | 1,998
Annex II: Acknowledgment form under Article 12(3) | 54 | 74 | 0.5 | 1,998
Annex A: Application for Recognition and Enforcement, including restricted information on the applicant | 54 | 15 | 0.5 | 405
Annex A: Abstract of Decision | 54 | 4 | 1 | 216
Annex A: Statement of Enforceability of Decision | 54 | 15 | 0.17 | 138
Annex A: Statement of Proper Notice | 54 | 4 | 0.5 | 108
Annex A: Status of Application Report—Article 12 | 54 | 30 | 0.33 | 535
Annex B: Application for Enforcement of a Decision Made or Recognized in the Requested State, including restricted information on the applicant | 54 | 15 | 0.5 | 405
Annex B: Status of Application Report—Article 12 | 54 | 30 | 0.33 | 535
Annex C: Application for Establishment of a Decision, including restricted information on the Applicant | 54 | 4 | 0.5 | 108
Annex C: Status of Application Report—Article 12 | 54 | 7 | 0.33 | 125
Annex D: Application for Modification of a Decision, including Restricted Information on the Applicant | 54 | 4 | 0.5 | 108
Annex D: Status of Application Report—Article 12 | 54 | 7 | 0.33 | 125
Annex E: Financial Circumstances Form | 54 | 37 | 2 | 3,996
Annex F: Request for Specific Measures—Article 7(1) | 54 | 2 | 0.17 | 18
Annex F: Request for Specific Measures—Response—Article 7(1) | 54 | 7 | 0.17 | 64
Estimated Total Annual Burden Hours: |  |  |  | 10,882

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 654(20) and 666(f)

Mary C. Jones,
ACF/OPRE Certifying Officer.

[FR Doc. 2025-19045 Filed 9-29-25; 8:45 am]

BILLING CODE 4184-41-P